DEPARTMENT OF THE INTERIOR

National Park Service

[NPS-WASO-NAGPRA-13114; PPWOCRADN0-PCU00RP14.R50000]

Notice of Intent To Repatriate Cultural Items: New York State Museum, Albany, NY

AGENCY: National Park Service, Interior.

ACTION: Notice.

SUMMARY: The New York State Museum, in consultation with the appropriate Indian tribes or Native Hawaiian organizations, has determined that the cultural items listed in this notice meet the definition of unassociated funerary objects. Lineal descendants or representatives of any Indian tribe or Native Hawaiian organization not identified in this notice that wish to claim these cultural items should submit a written request to the New York State Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the New York State Museum at the address in this notice by July 17, 2013.

ADDRESSES: Lisa Anderson, NAGPRA Coordinator, New York State Museum, 3122 Cultural Education Center, Albany, NY 12230, telephone (518) 486-2020.

SUPPLEMENTARY INFORMATION: Notice is here given in accordance with the Native American Graves Protection and Repatriation Act (NAGPRA), 25 U.S.C. 3005, of the intent to repatriate cultural items under the control of the New York State Museum that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural items

In the late 19th century, 76 cultural items were removed from the property of the former Christian Science Church located in Lansingburg, Rensselaer County, NY, by Reverend O.C. Auringer of Troy, NY. Museum records indicate that the cultural items were found in association with human burials, but the human remains are not present in the collections. The unassociated funerary objects from this site are 65 tubular and round glass beads, 4 discoidal shell beads, 1 tubular bone bead, 1 stone bead, 1 perforated brass child's thimble, 1 small crescent-shaped shell bead, 1 small lead bird figure, and 2 perforated triangular brass projectile points.

In the late 19th and early 20th centuries, 93 cultural items were removed from sites in Albany, Rensselaer, and Saratoga Counties, NY, by Mr. Dwinel F. Thompson of Troy, NY. Museum records indicate that the cultural items were found in association with human burials, but the human remains are not present in the collections. From the former Laureate Grounds in Troy, Rensselaer County, NY, the 90 unassociated funerary objects are 6 perforated elk teeth, 2 iron objects (possibly awls), 3 copper spiral ornaments, 74 glass beads, 1 kaolin “EB” smoking pipe, 1 copper tinkling cone, 1 bone comb, and 2 perforated triangular brass projectile points. From Green Island in Albany County, NY, the 1 unassociated funerary object is 1 iron trade adze. From the vicinity of Schaghticok in Saratoga County, NY, the 2 unassociated funerary objects are 2 small discoidal shell beads.

The Lansingburg and Troy sites are burial grounds that may have been associated with Unawat's Castle, a Mahican village recorded on a 1632 map of Rensselaerswyck. The exact location of Unawat's Castle has not been established, but deed records indicate that the area where the sites are located was in the possession of the Mahican people until 1678 when it was sold by the Mahican leader, Amenhamit, to Robert Sanders. Prior to that, Mahican Indians allowed Sanders to use the property for his cattle as early as 1668. The objects from the Lansingburg burial sites date to circa A.D. 1650-1670. The objects from the Troy burial sites date to the early 17th century and the middle 17th century. Based on the archaeological and historical evidence, the unassociated funerary objects from the Lansingburg and Troy sites are likely to be culturally affiliated with the Stockbridge Munsee Community, Wisconsin.

Green Island is an island in the Hudson River of eastern New York where archaeological evidence indicates recurrent Native American occupation over several thousand years. Museum records indicate the cultural item was washed out of an Indian grave at the upper end of the island in 1904. The cultural item dates to the 17th century. Early deed records indicates that Green Island was in the possession of the Mahican people until 1665, when it was sold by Mahican leaders, Amanhanit, Aepjen, and Wanapet, to Jeremias Van Rensselaer. Based on the archaeological and historical evidence, the unassociated funerary object from Green Island is likely to be culturally affiliated with the Stockbridge Munsee Community, Wisconsin.

Museum records indicate two cultural items were found in an “Indian grave near Schuylerville,” which is located on the west side of the upper Hudson River in Saratoga County, NY. No specific site information is available, but extensive evidence of Native American occupation has been documented in the area of Fish Creek near Schuylerville. The cultural items date to the 16th century. Archaeological evidence suggests the Schuylerville area was occupied by Mahican people in the centuries just prior to European contact. Based on the archaeological evidence, the unassociated funerary object from the vicinity of Schuylerville is likely to be culturally affiliated with the Stockbridge Munsee Community, Wisconsin.

Determinations Made by the New York State Museum

Officials of the New York State Museum have determined that:

• Pursuant to 25 U.S.C. 3001(3)(B), the 169 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Stockbridge Munsee Community, Wisconsin.

Additional Requestors and Disposition

Lineal descendants or representatives of any Indian tribe or Native Hawaiian organization not identified in this notice that wish to claim these cultural items should submit a written request with information in support of the claim to Lisa Anderson, NAGPRA Coordinator, New York State Museum, 3122 Cultural Education Center, Albany, NY 12230, telephone (518) 486-2020, by July 17, 2013. After that date, if no additional claimants have come forward, transfer of control of the unassociated funerary objects to the Stockbridge Munsee Community, Wisconsin, may proceed.

The New York State Museum is responsible for notifying the Stockbridge Munsee Community, Wisconsin, that this notice has been published.

Dated: May 16, 2013.
Sherry Hutt,
Manager, National NAGPRA Program.

[FR Doc. 2013-14362 Filed 6-14-13; 8:45 am]

BILLING CODE 4312-50-P